DEPARTMENT OF LABOR

Employment and Training Administration

[TA-W-54,222]

Rohm & Hass Company, Elma, WA; Notice of Revised Determination on Reconsideration

On May 25, 2004, the Department issued an Affirmative Determination Regarding Application on Reconsideration applicable to workers and former workers of the subject firm. The notice will soon be published in the Federal Register.

On March 16, 2004 the Department initially denied TAA to workers of Rohm & Haas Company, Elma, Washington producing borohydride because the “contributed importantly” group eligibility requirement of Section 222 of the Trade Act of 1974 was not met.

In the request for reconsideration, the petitioner indicated that while requesting a consideration on the basis of a secondary upstream supplier impact during the initial petition, the petitioner did not provide domestic primary import impacted customers. Upon further review, it was revealed that the Department did not request a list of declining domestic customers during the initial investigation and thus did not investigate a secondary impact.

Having conducted an investigation of subject firm workers on the basis of secondary impact, it was revealed that Rohm & Haas Company, Elma, Washington supplied chemicals that were used in the production of pulp paper, and a loss of business with domestic manufacturers (whose workers were certified eligible to apply for adjustment assistance) contributed importantly to the workers separation or threat of separation.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that workers of Rohm & Haas Company, Elma, Washington qualify as adversely affected secondary workers under Section 222 of the Trade Act of 1974, as amended. In accordance with the provisions of the Act, I make the following certification:

All workers of Rohm & Haas Company, Elma, Washington who became totally or partially separated from employment on or after February 3, 2003 through two years from the date of certification are eligible to apply for adjustment assistance under Section 223 of the Trade Act of 1974, and are eligible to apply for alternative trade adjustment assistance under Section 246 of the Trade Act of 1974.

Signed at Washington, DC, this 8th day of June 2004.
Elliott S. Kushner,
Certifying Officer, Division of Trade Adjustment Assistance.

[FR Doc. 04-14917 Filed 6-30-04; 8:45 am]

BILLING CODE 4510-30-P0